DEPARTMENT OF HEALTH AND HUMAN SERVICES

Health Resources and Services Administration

Notice of Supplemental Funding to the National Rural Health Policy, Community, and Collaboration Program

AGENCY: Health Resources and Services Administration (HRSA), Department of Health and Human Services.

ACTION: Notice of supplemental funding.

SUMMARY: HRSA provided supplemental funds to the sole award recipient for the National Rural Health Policy, Community, and Collaboration Program under HRSA-24-003.

FOR FURTHER INFORMATION CONTACT: Alexa Ofori, Senior Advisor, Federal Office of Rural Health Policy, HRSA, at aofori@hrsa.gov and 301-945-3986.

SUPPLEMENTARY INFORMATION:

Recipient of the Award: The National Rural Health Association (NRHA).

Amount of Non-Competitive Award: One award for $644,000.

Project Period: August 1, 2024, to July 31, 2029.

Assistance Listing Number: 93.155.

Award Instrument: Non-competitive supplement for services.

Authority: Section 711 of the Social Security Act (42 U.S.C. 912).

Table 1—Recipient and Award Amount
Grant No. | Award recipient name | City, state | Award amount
U16RH03702 | National Rural Health Association | Leawood, KS | $644,000

Justification: NRHA was provided supplemental funds to identify, engage, educate, and collaborate with rural stakeholders on national rural health issues and promising practices to improve health care in rural areas nationwide. These activities build on past and ongoing NRHA projects supported by the Federal Office of Rural Health Policy and align with the goals of the program to educate rural stakeholders and facilitate collaboration with key stakeholders to improve the exchange of information and promising practices that support rural health.

Thomas J. Engels,
Administrator.

[FR Doc. 2025-19249 Filed 10-1-25; 8:45 am]

BILLING CODE 4165-15-P